DEPARTMENT OF THE INTERIOR

Bureau of Indian Affairs

[245A2100DD/AAKC001030/A0A51010.999900]

Proclaiming Certain Lands as Reservation for the Bay Mills Indian Community of Michigan

AGENCY: Bureau of Indian Affairs, Interior.

ACTION: Notice of reservation proclamation.

SUMMARY: This notice informs the public that the Assistant Secretary—Indian Affairs proclaimed approximately 37.61 acres, more or less, an addition to the reservation of the Bay Mills Indian Community of Michigan.

DATES: This proclamation was made on August 16, 2024.

FOR FURTHER INFORMATION CONTACT: Ms. Carla Clark, Bureau of Indian Affairs, Division of Real Estate Services, 1001 Indian School Road, NW, Box #44, Albuquerque, New Mexico 87104, carla.clark@bia.gov, (505) 563-3132.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The lands are proclaimed to be reservation land for the Bay Mills Indian Community, Michigan in Chippewa County, Michigan.

Bay Mills Indian Community, Michigan, Chippewa County, Michigan, Legal Descriptions Containing 37.61 Acres, More or Less

Parcel A

The East ⅓ of the Northwest ¼ of the Southwest ¼, Section 31, Township 47 North, Range 2 West.

Parcel B

The West ½ of the East ⅔ of the Northwest ¼ of the Southwest ¼ of Section 31, Township 47 North, Range 2 West.

Parcel C

The West ⅓ of the Northwest ¼ of the Southwest ¼, Section 31, Township 47 North, Range 2 West.

Also Described as

The Northwest ¼ of the Southwest ¼, Section 31, Township 47 North, Range 2 West.

The above-described lands contain a total of 36.71 acres, more or less, which are subject to all valid rights, reservations, rights-of-way, and easements of record.

This proclamation does not affect title to the lands described above, nor does it affect any valid existing easements for public roads, highways, public utilities, railroads and pipelines, or any other valid easements or rights-of-way or reservations of record.

Wizipan Garriott,
Principal Deputy Assistant Secretary—Indian Affairs, Exercising by delegation the authority of the Assistant Secretary—Indian Affairs.

[FR Doc. 2024-18839 Filed 8-21-24; 8:45 am]

BILLING CODE 4337-15-P